DEPARTMENT OF COMMERCE

International Trade Administration

[A-570-916, C-570-917]

Laminated Woven Sacks From the People's Republic of China: Continuation of Antidumping and Countervailing Duty Orders

AGENCY: Enforcement and Compliance, International Trade Administration, Department of Commerce.

SUMMARY: As a result of the determinations by the Department of Commerce (Commerce) and the International Trade Commission (ITC) that revocation of the antidumping (AD) and countervailing duty (CVD) orders on laminated woven sacks (woven sacks) from the People's Republic of China (China) would likely lead to a continuation or recurrence of dumping and countervailable subsidies, as well as material injury to an industry in the United States, Commerce is publishing a notice of continuation of the AD and CVD orders.

DATES: Applicable August 28, 2019.

FOR FURTHER INFORMATION CONTACT: Genevieve Coen at (202) 482-3251 (Antidumping Duty); and Thomas Dunne or Jacqueline Arrowsmith at (202) 482-2328 and (202) 482-5255, respectively (Countervailing Duty); AD/CVD Operations, Enforcement and Compliance, International Trade Administration, U.S. Department of Commerce, 1401 Constitution Avenue NW, Washington, DC 20230.

SUPPLEMENTARY INFORMATION:

Background

On August 7, 2008, Commerce published the AD and CVD orders on woven sacks from China.¹ On July 1, 2013, Commerce initiated the first five-year (sunset) review of the AD and orders on woven sacks from China, pursuant to section 751(c) of the Tariff Act of 1930, as amended (the Act).² As a result of its review, Commerce determined that revocation of the AD and CVD orders on woven sacks from China would likely lead to a continuation or recurrence of dumping and countervailable subsidies and, therefore, notified the ITC of the magnitude of the margins and net countervailable subsidy rates likely to prevail should the orders be revoked.³ The ITC determined, pursuant to section 751(c) of the Act, that revocation of the AD and CVD orders on woven sacks from China would lead to a continuation or recurrence of material injury to an industry in the United States within a reasonably foreseeable time.⁴ Accordingly, the continuation of the AD duty order was published on March 26, 2014, and the continuation of the CVD order was published on March 27, 2014, at the conclusion of the first five-year (sunset) reviews.⁵

¹ See Notice of Antidumping Duty Order: Laminated Woven Sacks from the People's Republic of China, 73 FR 45941 (August 7, 2008); and Laminated Woven Sacks from the People's Republic of China: Countervailing Duty Order, 73 FR 45955 (August 7, 2008) (collectively, Orders).

² See Initiation of Five-Year (Sunset) Reviews, 78 FR 39256 (July 1, 2013).

³ See Laminated Woven Sacks from the People's Republic of China: Final Results of Expedited First Sunset Review of the Antidumping Duty Order, 78 FR 64472 (October 29, 2013); and Laminated Woven Sacks from the People's Republic of China: Final Results of the Expedited Sunset Review of the Countervailing Duty Order, 78 FR 69369 (November 19, 2013).

⁴ See Laminated Woven Sacks from China, 79 FR 15140 (March 18, 2014).

⁵ See Laminated Woven Sacks from the People's Republic of China: Continuation of the Antidumping Duty Order, 79 FR 16770 (March 26, 2014); and Laminated Woven Sacks from the People's Republic of China: Continuation of the Countervailing Duty Order, 79 FR 17134 (March 27, 2014).

On February 5, 2019, Commerce initiated the second five-year (sunset) review of the AD and CVD orders on woven sacks from China, pursuant to section 751(c) of the Act.⁶ As a result of its review, Commerce determined that revocation of the AD and CVD orders on woven sacks from China would likely lead to a continuation or recurrence of dumping and countervailable subsidies and, therefore, notified the ITC of the magnitude of the margins and net countervailable subsidy rates likely to prevail should the orders be revoked.⁷ On August 21, 2019, the ITC published its determination, pursuant to section 751(c) of the Act, that revocation of the AD and CVD orders on woven sacks from China would likely lead to a continuation or recurrence of material injury to an industry in the United States within a reasonably foreseeable time.⁸

⁶ See Initiation of Five-Year (Sunset) Reviews, 84 FR 1704 (February 5, 2019).

⁷ See Laminated Woven Sacks from the People's Republic of China: Final Results of the Expedited Second Sunset Review of the Antidumping Duty Order, 84 FR 27089 (June 11, 2019), and accompanying Issues and Decision Memorandum (IDM); Laminated Woven Sacks from the People's Republic of China: Final Results of the Second Expedited Five-Year (Sunset) Review of the Countervailing Duty Order 84 FR 27090 (June 11, 2019), and accompanying IDM.

⁸ See Laminated Woven Sacks From China: Determinations, 84 FR 43618 (August 21, 2019).

Scope of the Orders

The merchandise covered by the orders is laminated woven sacks. Laminated woven sacks are bags or sacks consisting of one or more plies of fabric consisting of woven polypropylene strip and/or woven polyethylene strip, regardless of the width of the strip; with or without an extrusion coating of polypropylene and/or polyethylene on one or both sides of the fabric; laminated by any method either to an exterior ply of plastic film such as biaxially-oriented polypropylene (BOPP) or to an exterior ply of paper that is suitable for high quality print graphics; ⁹ printed with three colors or more in register; with or without lining; whether or not closed on one end; whether or not in roll form (including sheets, lay-flat tubing, and sleeves); with or without handles; with or without special closing features; not exceeding one kilogram in weight. Woven sacks are typically used for retail packaging of consumer goods such as pet foods and bird seed.

⁹ “Paper suitable for high quality print graphics,” as used herein, means paper having an ISO brightness of 82 or higher and a Sheffield Smoothness of 250 or less. Coated free sheet is an example of a paper suitable for high quality print graphics.

Effective July 1, 2007, laminated woven sacks are classifiable under Harmonized Tariff Schedule of the United States (HTSUS) subheadings 6305.33.0050 and 6305.33.0080. Laminated woven sacks were previously classifiable under HTSUS subheading 6305.33.0020. If entered with plastic coating on both sides of the fabric consisting of woven polypropylene strip and/or woven polyethylene strip, laminated woven sacks may be classifiable under HTSUS subheadings 3923.21.0080, 3923.21.0095, and 3923.29.0000. If entered not closed on one end or in roll form (including sheets, lay-flat tubing, and sleeves), laminated woven sacks may be classifiable under other HTSUS subheadings including 3917.39.0050, 3921.90.1100, 3921.90.1500, and 5903.90.2500. If the polypropylene strips and/or polyethylene strips making up the fabric measure more than 5 millimeters in width, laminated woven sacks may be classifiable under other HTSUS subheadings including 4601.99.0500, 4601.99.9000, and 4602.90.0000. Although HTSUS subheadings are provided for convenience and customs purposes, the written description of the scope of the orders is dispositive.

Continuation of the Orders

As a result of the determinations by Commerce and the ITC that revocation of the Orders would likely lead to a continuation or recurrence of dumping and countervailable subsidies, as well as material injury to an industry in the United States, pursuant to section 751(d)(2) of the Act, Commerce hereby orders the continuation of the AD and CVD orders on woven sacks from China. U.S. Customs and Border Protection will continue to collect AD and CVD cash deposits at the rates in effect at the time of entry for all imports of subject merchandise. The effective date of the continuation of the orders will be the date of publication in the Federal Register of this notice of continuation. Pursuant to section 751(c)(2) of the Act, Commerce intends to initiate the next five-year review of the orders not later than 30 days prior to the fifth anniversary of the effective date of continuation.

Notification to Interested Parties

This five-year (sunset) review and this notice are in accordance with section 751(c) of the Act and published pursuant to section 777(i)(1) of the Act.

Dated: August 22, 2019.
Christian Marsh,
Deputy Assistant Secretary for Enforcement and Compliance.

[FR Doc. 2019-18598 Filed 8-27-19; 8:45 am]

BILLING CODE 3510-DS-P